DEPARTMENT OF LABOR

Agency Information Collection Activities; Submission for OMB Review; Comment Request; Transition Assistance Program Employment Navigator and Partnership Pilot, New Collection

AGENCY: Office of the Assistant Secretary for Policy, Chief Evaluation Office, Department of Labor.

ACTION: Notice of Information Collection; request for comment.

SUMMARY: The Department of Labor (DOL), as part of its continuing effort to reduce paperwork and respondent burden, conducts a preclearance consultation program to provide the general public and federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents is properly assessed. Currently, DOL is soliciting comments concerning the collection of data about the Transition Assistance Program Employment Navigator and Partnership Pilot evaluation. A copy of the proposed Information Collection Request (ICR) can be obtained by contacting the office listed below in the addressee section of this notice.

DATES: Written comments must be submitted to the office listed in the addressee section below on or before July 19, 2021.

ADDRESSES: You may submit comments by either one of the following methods: Email: ChiefEvaluationOffice@dol.gov; Mail or Courier: Janet Javar, Chief Evaluation Office, OASP, U.S. Department of Labor, Room S-2312, 200 Constitution Avenue NW, Washington, DC 20210. Instructions: Please submit one copy of your comments by only one method. All submissions received must include the agency name and OMB Control Number identified above for this information collection. Comments, including any personal information provided, become a matter of public record. They will also be summarized and/or included in the request for OMB approval of the information collection request.

FOR FURTHER INFORMATION CONTACT: Janet Javar by email at ChiefEvaluationOffice@dol.gov or by phone at (202) 693-5954.

SUPPLEMENTARY INFORMATION:

I. Background

The Chief Evaluation Office (CEO) of the U.S. Department of Labor (DOL) intends to design and conduct an evaluation of a new DOL-funded initiative called the Transition Assistance Program (TAP) Employment Navigator and Partnership Pilot (ENPP). The goal of this study is to assess the feasibility of delivering individualized career counseling to transitioning service members (TSMs) and military spouses. The ENPP addresses a requirement of the 2019 National Defense Authorization Act (NDAA) to offer individual counseling as part of the transition process for the TAP.

The ENPP study is comprised of a formative and early implementation evaluation to assess the fidelity of implementation across approximately 13 sites; identify promising practices and challenges that arise during implementation; understand how cooperation and coordination among relevant stakeholder groups can be reinforced to improve program outcomes; and document how trainings, direct services, and warm handovers/connections can be enhanced prior to program expansion to additional military bases. Additionally, findings from the study may be used to add contextual depth and understanding to the interpretation of findings from DOL's measurement of ENPP outcomes.

This Federal Register Notice provides the opportunity to comment on proposed data collections that will be used in the evaluation: TAP manager focus group; program partner focus group; military spouse participant focus group; TSM (post-Navigator) participant focus group; TSM (post-Partner) participant focus group; and program Employment Navigator focus group.

1. TAP manager focus group. Virtual focus group with TAP managers to collect perceptions of effectiveness of communication and outreach strategies.

2. Program partner focus group. Virtual focus group with partners to collect satisfaction with onboarding process, connections, and data systems.

3. Military spouse participant focus group. Virtual focus group with military spouses to collect perceptions of communication and outreach strategies, satisfaction with scheduling logistics, and the services received from the Employment Navigator.

4. TSM (post-Navigator) participant focus group. Virtual focus group with enlisted TSMs to collect perceptions of communication and outreach strategies, satisfaction with scheduling logistics, and the services received from the Employment Navigator.

5. TSM (post-Partner) participant focus group. Virtual focus group with enlisted TSMs to collect perceptions of match between services desired and received, the appropriateness of the services, and whether they would recommend the program.

6. Program Employment Navigator focus group. Virtual focus group with Employment Navigators to collect perceptions of their overall preparedness to deliver services, the data systems they use, and perceptions of the partners they've worked with.

II. Desired Focus of Comments

Currently, DOL is soliciting comments concerning the above data collection for the Employment Navigator and Partnership Pilot (ENPP) study. DOL is particularly interested in comments that do the following:

○ Evaluate whether the proposed collection of information is necessary for the proper performance functions of the agency, including whether the information will have practical utility;

○ evaluate the accuracy of the agency's burden estimate of the proposed information collection, including the validity of the methodology and assumptions;

○ enhance the quality, utility, and clarity of the information to be collected; and

○ minimize the burden of the collection of information on those who are to respond, including through the use of appropriate automated, electronic, mechanical, or other technological collection techniques or other forms of information technology—for example, permitting electronic submissions of responses.

III. Current Actions

At this time, the Department of Labor is requesting clearance for the TAP manager focus group; program partner focus group; military spouse participant focus group; TSM (post-Navigator) participant focus group; TSM (post-Partner) participant focus group; and program Employment Navigator focus group.

Type of Review: New information collection request.

OMB Control Number: 1290-NEW.

Affected Public: Employment Navigator and Partnership Pilot (ENPP) staff, program partners, and participants.

Comments submitted in response to this request will be summarized and/or included in the request for Office of Management and Budget approval of the information collection request; they will also become a matter of public record.

Estimated Annual Burden Hours
Type of instrument (form/activity) | Number of respondents | Number of responses per respondent | Total number of responses | Average burden time per response (hours) | Estimated burden hours
TAP manager focus group protocol | ¹ 15 | 1 | 15 | 1.5 | 23
Program partner focus group protocol | ² 24 | 1 | 24 | 1.5 | 36
Military spouse participant focus group protocol | ³ 21 | 1 | 21 | 1.5 | 32
TSM (post-Navigator) participant focus group protocol | ⁴ 29 | 1 | 29 | 1.5 | 44
TSM (post-Partner) participant focus group protocol | ⁵ 21 | 1 | 21 | 1.5 | 32
Program Employment Navigator focus group protocol | ⁶ 17 | 1 | 17 | 1.5 | 26
Total | 127 |  | 127 |  | 191
¹ Assumes virtual focus groups with approximately 30 TAP managers at approximately 13 sites over the two-year clearance period.
² Assumes virtual focus groups with approximately 48 program partners over the two-year clearance period.
³ Assumes virtual focus groups with approximately 42 military spouse participants at approximately 13 sites over the two-year clearance period.
⁴ Assumes virtual focus groups with approximately 58 transitioning service members at approximately 13 sites over the two-year clearance period.
⁵ Assumes virtual focus groups with approximately 42 transitioning service members at approximately 13 sites over the two-year clearance period.
⁶ Assumes virtual focus groups with approximately 34 program Employment Navigators at approximately 13 sites over the two-year clearance period.

Christina Yancey,
Chief Evaluation Officer, U.S. Department of Labor.

[FR Doc. 2021-10525 Filed 5-18-21; 8:45 am]

BILLING CODE 4510-HX-P